DEPARTMENT OF DEFENSE

Department of the Army

Department of the Army; Corps of Engineers

Availability of Information Bulletin, for a Replacement Lock, Sault Locks Complex, Sault Sainte Marie, MI

AGENCY: Department of the Army, U.S. Army Corps of Engineers, DoD.

ACTION: Notice of availability.

SUMMARY: The U.S. Army Corps of Engineers (USACE), Detroit District, is issuing this notice to announce the availability of an Information Bulletin for a proposed Replacement Lock, Sault Locks Complex, Sault Sainte Marie, MI. This bulletin provides information on the National Environmental Policy Act (NEPA) review of the project that was presented in the Great Lakes Connecting Channels and Harbors Final Interim Feasibility Report and Environmental Impact Statement (EIS), 1986 and a Record of Environmental Consideration, 2000. Based upon the review of current site conditions and project plans, it appears that no new environmental impacts or issues have been identified since the 1986 FEIS and the 2000 Record of Environmental Consideration for the project. The planned construction of a second large lock at Sault Sainte Marie, MI, has been adequately assessed in accordance with NEPA and a Record of Decision (ROD) should be signed to allow construction to begin. The Bulletin is being provided for information and to solicit comments on any changed conditions or anticipated impacts that may effect the decision to sign the ROD.

DATES: The Information Bulletin will be available for public review from July 25, 2008 through August 25, 2008. Written comments must be received by September 2, 2008.

ADDRESSES: You may request a copy of the Information Bulletin from Ms. Florence Bissell, Environmental Analysis Branch, U.S. Army Corps of Engineers, Detroit District, 477 Michigan Avenue, P.O. Box 1027, Detroit, MI 48231-1027.

FOR FURTHER INFORMATION CONTACT: Ms. Florence Bissell at (313) 226-3510 or at florence.k.bissell@usace.army.mil. Written comments are to be provided to Ms. Bissell.

SUPPLEMENTARY INFORMATION: Construction of a replacement lock at the U.S. Army Corps of Engineers Sault Locks Complex on the St. Mary's River, Michigan was proposed following a 1976 resolution of the Senate Public Works Committee to determine the advisability of providing additional lockage facilities. It was recommended that a lock of greater dimensions replace two smaller locks, the Davis and Sabin Locks, which were constructed during World War I. The proposed lock would be capable of handling the Great Lakes System's largest vessels (Class C) which account for more than half of the potential carrying capacity of the Great Lakes fleet and currently are limited to lockage through the Poe Lock. A disruption of the Poe Lock would result in significant national economic consequences therefore a second lock of the Poe Lock dimensions is needed. Congress has provided, in the Water Resources Development Act of 2007 that such a lock be constructed at Federal expense and funding has been appropriated to initiate construction.

Dated: July 18, 2008.
Les E. Weigum,
Chief, Environmental Analysis Branch.

[FR Doc. E8-17073 Filed 7-24-08; 8:45 am]

BILLING CODE 3710-GA-P